ENVIRONMENTAL PROTECTION AGENCY

40 CFR Part 81

[FRL-6733-3]

RIN 2060-ZA08

Rescinding Findings That the 1-Hour Ozone Standard No Longer Applies in Certain Areas

Correction

In rule document 00-17472 beginning on page 45182 in the issue of Thursday, July 20, 2000, make the following correction:

§81.329 [Corrected]

On page 45244, in §81.329, in footnote 2 “January 16, 2000” should read “January 16, 2001”.

[FR Doc. C0-17472 Filed 7-24-00; 8:45 am]

BILLING CODE 1505-01-D CORRECTIONS

DEPARTMENT OF JUSTICE

Drug Enforcement Administration

21 CFR Parts 1301 and 1307

[DEA-143F]

RIN 1117-AA36

Establishment of Freight Forwarding Facilities for DEA Distributing Registrants

Correction

In rule document 00-18147 beginning on page 44674 in the issue of Wednesday, July 19, 2000, make the following corrections:

§1301.12 [Corrected]

1. On page 44678, in the third column, in §1301.12(b)(4), thirteen lines from the bottom, “with thirty” should read “within thirty”.

§1301.77 [Corrected]

2. On page 44679, in the first column, in §1301.77, in paragraph (c), in the first line “substance” should read “substances”.

3. On the same page, in the same column, in the same section, in the same paragraph, in the third line “must packed” should read “must be packed”.

§1307.12 [Corrected]

4. On page 44679, in the second column, in §1307.12(a), “957(b)(1)” should read “957(b)(1))”.

[FR Doc. C0-18147 Filed 7-24-00; 8:45 am]

BILLING CODE 1505-01-D